DEPARTMENT OF TRANSPORTATION

Federal Aviation Administration

Nickel-Cadmium and Lead-Acid Batteries

AGENCY: Federal Aviation Administration (FAA), DOT.

ACTION: Notice of availability.

SUMMARY: This notice announces the availability of, and requests comments on, a proposed Technical Standard Order (TSO) on nickel-cadmium and lead-acid batteries. These batteries power aircraft equipment (emergency and standby systems, plus engine or APU starting). The TSO prescribes minimum performance standards for these batteries to be identified with the marking “TSO-C173.”

DATES: Comments must be received on or before March 28, 2005.

ADDRESSES: Send all comments on this proposed TSO to: Technical Programs Branch, AIR-120, Aircraft Engineering Division, Aircraft Certification Service, Attn: File No. TSO-C173, Federal Aviation Administration, 800 Independence Avenue SW., Washington, DC 20591.

You may deliver comments to: Federal Aviation Administration, Room 804, 800 Independence Avenue SW., Washington, DC 20591.

FOR FURTHER INFORMATION CONTACT: Mr. Lee Nguyen, AIR-120, Room 804, Federal Aviation Administration, 800 Independence Avenue SW., Washington DC 20591. Telephone (202) 267-9937.

SUPPLEMENTARY INFORMATION:

Comments Invited

You are invited to comment on the proposed TSO by submitting written data, views, or arguments to the above address. Comments received may be examined, both before and after the comment closing date, in room 804 at the above address, weekdays except Federal holidays, between 8:30 a.m. and 4:30 p.m. The Director, Aircraft Certification Service, will consider all comments received on or before the closing date before issuing the final TSO.

How To Obtain Copies

You may download a copy of proposed TSO-C173 from the FAA Web site at: http://www.airweb.faa.gov/rgl. At the Web page, select “Technical Standard Orders.” At the TSO page, select “Proposed TSOs.” For a paper copy of the proposed TSO, or for further assistance, contact the individual listed in FOR FURTHER INFORMATION CONTACT.

Issued in Washington, DC, on February 17, 2005.
Susan J.M. Cabler,
Acting Manager, Aircraft Engineering Division, Aircraft Certification Service.

[FR Doc. 05-3608 Filed 2-24-05; 8:45 am]

BILLING CODE 4910-13-M